DEPARTMENT OF ENERGY

Federal Energy Regulatory Commission

[Docket No. RP06-177-003]

Iroquois Gas Transmission System, L.P.; Notice of Compliance Filing

September 11, 2006.

Take notice that on September 8, 2006, Iroquois Gas Transmission System, L.P. (Iroquois) tendered for filing as part of its FERC Gas Tariff, First Revised Volume No. 1, the following tariff sheets:

Substitute Second Revised Sheet No. 53

Substitute Fourth Revised Sheet No. 54

Substitute Seventh Revised Sheet No. 55

Original Sheet No. 55A

Fourth Revised Sheet No. 56

Iroquois states that the tariff sheets modify the credit assurance provisions applicable to the HUB Service, as described in Iroquois' filing. By order issued March 20, 2006 (114 FERC ¶ 61,287) the Commission accepted the tariff sheets for the HUB Service, to become effective five days after the date that Iroquois notifies the Commission that it intends to implement HUB Service upon completion of necessary technological changes and system upgrades. Iroquois states that it has been submitting monthly status reports, wherein Iroquois has reported that it currently anticipates implementing the service on October 17, 2006.

Iroquois requests that the revised tariff sheets be made effective at the same time as the other tariff sheets implementing the HUB Service.

Iroquois states that copies of the filing were served on all jurisdictional customers and interested state regulatory agencies and all parities to the proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 18, 2006.

Magalie R. Salas,
Secretary.

[FR Doc. E6-15395 Filed 9-15-06; 8:45 am]

BILLING CODE 6717-01-P